DEPARTMENT OF COMMERCE

National Oceanic and Atmospheric Administration

RIN 0648-XA299

Endangered Species; Permit No. 13330-01

AGENCY: National Marine Fisheries Service (NMFS), National Oceanic and Atmospheric Administration (NOAA), Commerce.

ACTION: Notice; receipt of modification request.

SUMMARY: Notice is hereby given the following applicant has applied in due form for a modification to a permit (Permit No. 13330) taking smalltooth sawfish for purposes of scientific research: NMFS Southeast Fisheries Center (SEFSC) Bonnie Ponwith, PhD, Responsible Party; 75 Virginia Beach Drive, Miami, FL 33149.

DATES: Written, telefaxed, or e-mail comments must be received on or before April 18, 2011.

ADDRESSES: The application and related documents are available for review by selecting “Records Open for Public Comment” from the Features box on the Applications and Permits for Protected Species (APPS) home page, https://apps.nmfs.noaa.gov/, and then selecting File No. 13330-01 from the list of available applications.

These documents are available upon written request or by appointment in the following offices:

• Permits, Conservation and Education Division, Office of Protected Resources, NMFS, 1315 East-West Highway, Room 13705, Silver Spring, MD 20910; phone (301) 713-2289; fax (301) 713-0376; and

• Southeast Region, NMFS, 263 13th Avenue South, Saint Petersburg, Florida 33701; phone (727) 824-5312; fax (727) 824-5309.

Written comments on this application should be submitted to the Chief, Permits, Conservation and Education Division.

• By e-mail to NMFS.Pr1Comments@noaa.gov (include the File No. in the subject line),

• By facsimile to (301) 713-0376, or

• At the address listed above.

Those individuals requesting a public hearing should submit a written request to the Chief, Permits, Conservation and Education Division at the address listed above. The request should set forth the specific reasons why a hearing on this application would be appropriate.

FOR FURTHER INFORMATION CONTACT: Malcolm Mohead or Colette Cairns, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The primary objective of the proposed research would remain unchanged from the original permit: to collect data on the biology, distribution and abundance of the endangered smalltooth sawfish to facilitate recovery of the species. Sampling with the goal of taking 45 smalltooth sawfish per year is currently authorized by longline, gillnet, seine net, drum (set) lines, or rod and reel throughout Florida's coastal waters, but primarily in the region of the Florida coast from Naples to Key West, encompassing the Ten Thousand Islands. All captured sawfish are also authorized to be handled, measured, tagged, sampled, and released alive. Tagging methods include rototags (fin tags), plastic headed dart tags, umbrella dart tags, Passive Integrated Transponder (PIT) tags, acoustic tags (transmitters), Pop-Up Archival transmitting (PAT) tags, and Smart Position Only Transmitting (SPOT) tags. Sampling also includes a small genetic tissue fin clip and blood sample. Finally, dead sawfish acquired through strandings or from law enforcement confiscations are also measured and sampled for scientific purposes.

To increase tag retention and provide less invasive tagging techniques, the applicant is now requesting to replace plastic rototags, used to secure VEMCO acoustic transmitters, with neoprene clasp tags; and nylon umbrella darts, used to secure PAT tags, with dorsal fin harnesses. SPOT tags would also be excluded as a tagging method. Better data collection could provide increased insight into habitat usage pattern and accomplish actions items identified in the recovery plan for the species.

Dated: March 11, 2011.
Tammy C. Adams,
Acting Chief, Permits, Conservation and Education Division, Office of Protected Resources, National Marine Fisheries Service.

[FR Doc. 2011-6261 Filed 3-16-11; 8:45 am]

BILLING CODE 3510-22-P